DEPARTMENT OF THE TREASURY

Terrorism Risk Insurance Program; Rebuttal of Controlling Influence Submissions

AGENCY: Departmental Offices, Terrorism Risk Insurance Program Office, Department of Treasury.

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Terrorism Risk Insurance Program Office is seeking comments regarding Rebuttal of Controlling Influence Submissions.

DATES: Written comments should be received on or before September 5, 2006 to be assured of consideration.

ADDRESSES: Submit comments by e-mail to triacomments@do.treas.gov or by mail (if hard copy, preferably an original and two copies) to: Terrorism Risk Insurance Program, Public Comment Record, Suite 2100, Department of the Treasury, 1425 New York Ave., NW., Washington, DC 20220. Because paper mail in the Washington, DC area may be subject to delay, it is recommended that comments be submitted electronically. All comments should be captioned with “PRA Comments—Rebuttal of Controlling Influence Submissions”. Please include your name, affiliation, address, e-mail address and telephone number in your comment. Comments may also be submitted through the Federal eRulemaking Portal: http://www.regulations.gov. Comments will be available for public inspection by appointment only at the Reading Room of the Treasury Library. To make appointments, call (202) 622-0990 (not a toll-free number).

FOR FURTHER INFORMATION CONTACT: Requests for additional information should be directed to: Terrorism Risk Insurance Program Office at (202) 622-6770 (not a toll-free number).

SUPPLEMENTARY INFORMATION:

Title: Terrorism Risk Insurance Program—Rebuttal of Controlling Influence Submissions.

OMB Number: 1506-0190.

Abstract: Sections 103(a) and 104 of the Terrorism Risk Insurance Act of 2002 (Pub. L. 107-297) (and unchanged by the Terrorism Risk Insurance Extension Act of 2005, Public Law 109-144) authorize the Department of Treasury to administer and implement the temporary Terrorism Risk Insurance Program established by the Act. The definition of control in section 102(3) of the Act provides for Treasury to determine whether an insurer directly or indirectly exercises a controlling influence over the management or policies of another insurer. Among other things, if one insurer controls another insurer, then the insurers are deemed “affiliates” under the Program and their direct earned premium must be consolidated for purposes of calculating the “insurer deductible”. The “insurer deductible, in turn, forms the basis for ascertaining federal payments made by Treasury under the Act. Treasury promulgated procedures at 31 CFR 50.8 for an insurer to follow in seeking to rebut a regulatory presumption of “controlling influence” over another insurer. These procedures require insurers to provide Treasury necessary information to determine whether a “controlling influence” exists, and if it does, whether it has been rebutted. No assurance of confidentiality has been provided, although applicable exemptions under the Freedom of Information Act could apply, e.g., to any confidential business or trade secret material submitted.

Current Actions: No changes are being made at this time.

Type of Review: Extension of currently approved collection.

Affected Public: Business or other for-profit, Federal Government.

Estimated Number of Respondents: 10.

Estimated Time per Respondent: 40 hours.

Estimated Total Annual Burden Hours: 400 hours.

Request for Comments: An agency may not conduct or sponsor, and a person is not required to respond to, a collection of information unless the collection of information displays a valid OMB control number. Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance and purchase of services to provide information.

Dated: June 30, 2006.
Jeffrey S. Bragg,
Director, Terrorism Risk Insurance Program.

[FR Doc. E6-10552 Filed 7-5-06; 8:45 am]

BILLING CODE 4810-25-P